DEPARTMENT OF HOUSING AND URBAN DEVELOPMENT

[Docket No. FR-5229-FA-01]

Announcement of Funding Awards for the Rental Assistance for Non-Elderly Persons With Disabilities Related to Certain Types of Section 8 Project-Based Developments and Sections 202, 221(d)(3) and 236 Developments (Certain Developments) for Fiscal Year 2008

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2008 Notice of Funding Availability (NOFA) for the Rental Assistance for Non-Elderly Persons with Disabilities Related to Certain Types of Section 8 Project-Based Developments and Sections 202, 221(d)(3) and 236 Developments (Certain Developments) program funding for Fiscal Year 2008. This announcement contains the consolidated names and addresses of those award recipients selected for funding based on guidelines established in the NOFA.

FOR FURTHER INFORMATION CONTACT: For questions concerning the FY 2008 Rental Assistance for Non-Elderly Persons with Disabilities Related to Certain Types of Section 8 Project-Based Developments and Sections 202, 221(d)(3) and 236 Developments (Certain Developments) program awards, contact the Office of Public and Indian Housing's Grant Management Center, Acting Director, Keia L. Neal, Department of Housing and Urban Development, Washington, DC, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $15,000,000 in one-year budget authority for the Rental Assistance for Non-Elderly Persons with Disabilities Related to Certain Types of Section 8 Project-Based Developments and Sections 202, 221(d)(3) and 236 Developments (Certain Developments) program is found in the Departments of Veteran Affairs and Housing and Urban Development, and Independent Agencies Appropriations Act, 2008 (Pub. L.110-161). The allocation of housing assistance budget authority is pursuant to the provisions of 24 CFR part 791, subpart D, implementing section 213 (d) of the Housing and Community Development Act of 1974, as amended.

The purpose of the Rental Assistance for Non-Elderly Persons with Disabilities Related to Certain Types of Section 8 Project-Based Developments and Sections 202, 221(d)(3) and 236 Developments (Certain Developments) program is to provide vouchers to non-elderly disabled families who are not currently receiving housing assistance in certain Section 8 project-based developments due to the owner's establishment of preferences for the admission of elderly families, or in certain types of Section 202, Section 221(d)(3), or Section 236 developments where the owner is restricting occupancy in the developments (or portions thereof) to elderly families. The vouchers will enable non-elderly disabled families affected by these actions to access affordable housing.

The Fiscal Year 2008 awards announced in this Notice were selected for funding in a competition announced in the Federal Register NOFA published on November 28, 2008. In accordance with Section 102(a)(4)(C) of the Department of Housing and Urban Development Reform Act of 1989 (103 Stat. 1987, 42 U.S.C. 3545), the Department is publishing the names, addresses, and amounts of the twelve (12) awards made under the Rental Assistance for Non-Elderly Persons with Disabilities Related to Certain Types of Section 8 Project-Based Developments and Sections 202, 221(d)(3) and 236 Developments (Certain Developments) competition.

Dated: June 1, 2009.
Deborah Hernandez,
Deputy Assistant Secretary.

Recipient | Address/City/State/Zip code | Funding amount | Vouchers
Alaska Housing Finance Corporation | P.O. Box 101020, Anchorage, AK 99510 | $296,881 | 45
San Francisco Housing Authority | 440 Turk Street, San Francisco, CA 94102 | 231,429 | 16
Housing Authority City of Boulder DBA Boulder Housing Partner | 4800 North Broadway, Boulder, CO 80304 | 572,809 | 81
The Colorado Department of Human Services | 4020 South Newton Street, Denver, CO 80236 | 478,176 | 100
Chelmsford Housing Authority | 10 Wilson Street, Chelmsford, MA 1824 | 686,801 | 88
Taunton Housing Authority | 30 Olney Street, Suite B, Taunton, MA 2780 | 979,140 | 100
Housing Authority of the City of Wilmington, N.C. | 1524 South 16th Street, Wilmington, NC 28401 | 264,048 | 50
New Hampshire Housing Finance Authority | 32 Constitution Drive, Bedford, NH 3110 | 427,325 | 56
Lucas Metropolitan Housing Authority | P.O. Box 477 435 Nebraska Avenue, Toledo, OH 43697 | 532,584 | 100
Adams County Housing Authority | 40 East High Street, Gettysburg, PA 17325 | 59,917 | 14
Metropolitan Development and Housing Agency | 701 South Sixth Street, Nashville, TN 37206 | 550,488 | 100
King County Housing Authority | 600 Andover Park West, Tukwila, WA, 98188 | 1,078,764 | 100

[FR Doc. E9-14120 Filed 6-16-09; 8:45 am]

BILLING CODE 4210-67-P